ENVIRONMENTAL PROTECTION AGENCY

[EPA-HQ-OAR-2013-0691; FRL-10000-72-OAR]

Proposed Information Collection Request; Comment Request; Implementation of the Fine Particulate Matter (PM2.5) National Ambient Air Quality Standards (Renewal)

AGENCY: Environmental Protection Agency (EPA).

ACTION: Notice.

SUMMARY: The U.S. Environmental Protection Agency (EPA) is planning to submit an information collection request (ICR), “Fine Particulate Matter (PM2.5) NAAQS Implementation Rule (Renewal)” (EPA ICR No. 2258.05, OMB Control No. 2060-0611), to the Office of Management and Budget (OMB) for review and approval in accordance with the Paperwork Reduction Act (PRA). Before doing so, the EPA is soliciting public comments on specific aspects of the proposed information collection as described below. This is a proposed renewal of the existing ICR for the PM2.5 NAAQS State Implementation Plan (SIP) Requirements Rule, which is currently approved through January 31, 2020. An Agency may not conduct or sponsor, and a person is not required to a collection of information unless it displays a currently valid OMB control number.

DATES: Comments must be submitted on or before December 2, 2019.

ADDRESSES: Submit your comments, referencing Docket ID No. EPA-HQ-OAR-2013-0691, online using http://www.regulations.gov (our preferred method), or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information, or other information whose disclosure is restricted by statute.

FOR FURTHER INFORMATION CONTACT: Ms. Leigh Herrington, Office of Air Quality Planning and Standards, U.S. Environmental Protection Agency, by phone at (919) 541-0882 or by email at herrington.leigh@epa.gov.

SUPPLEMENTARY INFORMATION: Supporting documents which explain in detail the information that the EPA will be collecting are available in the public docket for this ICR. The docket can be viewed online at http://www.regulations.gov, or in person at the EPA Docket Center, WJC West, Room 3334, 1301 Constitution Ave. NW, Washington, DC The telephone number for the Docket Center is (202) 566-1744. For additional information about EPA's public docket, visit http://www.epa.gov/dockets.

Pursuant to section 3506(c)(2)(A) of the PRA, the EPA is soliciting comments and information to enable it to: (i) Evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB. An agency may not conduct or sponsor, and a person is not required to respond to, a collection of information unless it displays a currently valid OMB control number.

Abstract: The final PM2.5 NAAQS State Implementation Plan (SIP) Requirements Rule (PM2.5 SIP Requirements Rule) was effective on October 24, 2016 (81 FR 58010). This rule provides the framework of Clean Air Act (CAA) requirements for air agencies to develop state implementation plans to help attain and maintain the PM2.5 NAAQS. States have applied this framework to develop attainment plans and redesignation requests and maintenance plans for areas designated nonattainment for the 1997 PM2.5 NAAQS, the 2006 PM2.5 NAAQS, and the 2012 PM2.5 NAAQS.

The ICR finalized with the PM2.5 NAAQS SIP Requirements Rule estimated, for the 3 years following the ICR approval date, the burden associated with plan development and plan revisions related to ongoing implementation efforts in 31 areas designated nonattainment for the 1997, 2006 and 2012 PM2.5 NAAQS. The estimates included the burden to develop and submit, and the burden to the EPA to review and to approve or disapprove, attainment plans to meet the requirements prescribed in CAA sections 110 and part D, subparts 1 and 4 of title I. A PM2.5 NAAQS attainment plan contains rules and other measures designed to improve air quality and achieve the NAAQS by the deadlines established under the CAA. It also must address several additional CAA requirements related to demonstrating timely attainment and must contain contingency measures in the event the nonattainment area does not achieve reasonable further progress throughout the attainment period or in the event the area does not attain the NAAQS by its attainment date. States that have attained by the applicable attainment date may be eligible to submit a redesignation request and maintenance plan to receive a redesignation from “nonattainment” to “attainment.” After a state submits an attainment or maintenance plan, the CAA requires the EPA to approve or disapprove the plan. Tribes may develop or submit attainment plans, but are not required to do so.

This ICR supersedes the existing ICR—for which the EPA is proposing renewal in this action—for purposes of PM2.5 NAAQS implementation.

Respondents/affected entities: State and local governments.

Respondent's obligation to respond: Mandatory.

Estimated number of responses: 18.

Frequency of response: Once per triggering event [i.e., an air agency is required to revise and submit a SIP revision when the area is reclassified to a higher classification, when an areas fails to achieve reasonable further progress, when a Serious nonattainment area fails to timely attain, and/or when a state requests redesignation for a PM2.5 nonattainment area that attains the NAAQS)].

Estimated burden for respondents: 25,500 hours per year. Burden is defined at 5 CFR 1320.03(b).

Estimated labor cost for respondents: $1.6M (present value) per year.

Estimated cost: $0 annualized capital or operation & maintenance costs.

Changes in estimates: The EPA expects there to be a reduction in excess of 50 percent in the total estimated respondent burden for the period covered by this ICR (February 1, 2020-January 31, 2023) compared with the information collection that is currently approved by OMB. This decrease is due to the fact that the number of areas for which states have ongoing attainment planning obligations has decreased greatly. For the current ICR, the EPA estimated that 31 nonattainment areas would have planning requirements for the current three-year period (February 1, 2017-January 31, 2020). For this renewal, the EPA estimates that only 18 nonattainment areas will have planning requirements to meet during the renewal period (February 1, 2020-January 31, 2023). Three of the areas are nonattainment for multiple PM2.5 NAAQS, thus allowing those affected states to take a streamlined approach to meeting their ongoing planning requirements. The burden estimate, detailed in the supporting statement located in the docket for this proposed renewal, accounts for potential new SIP revisions from states with nonattainment areas subject to reclassification and possible SIP revisions (in the form of maintenance plans) from states with areas that are attaining, or are expected to attain, the NAAQS.

Dated: September 19, 2019.
Scott Mathias,
Acting Director, Air Quality Policy Division.

[FR Doc. 2019-21327 Filed 9-30-19; 8:45 am]

BILLING CODE 6560-50-P